DEPARTMENT OF COMMERCE

National Telecommunications and Information Administration

[Docket No: 120509050-1050-01]

RIN 0660-XC001

Development of the State and Local Implementation Grant Program for the Nationwide Public Safety Broadband Network

AGENCY: National Telecommunications and Information Administration, U.S. Department of Commerce.

ACTION: Request for Information.

SUMMARY: The National Telecommunications and Information Administration (NTIA) is issuing a Request for Information (RFI) seeking public comment on various issues relating to the development of the State and Local Implementation grant program, which NTIA must establish pursuant to the Middle Class Tax Relief and Job Creation Act of 2012 to assist state and local governments in planning for a single, nationwide interoperable public safety broadband network. NTIA intends to use the input from this process to inform the development of programmatic requirements to govern the state and local planning grants program.

DATES: Comments must be received by June 15, 2012 at 5:00 p.m. Eastern Daylight Time.

ADDRESSES: Comments may be submitted by email to SLIGP@ntia.doc.gov. Comments submitted by email should be machine-searchable and should not be copy-protected. Written comments also may be submitted by mail to: National Telecommunications and Information Administration, U.S. Department of Commerce, HCHB Room 4812, 1401 Constitution Avenue NW., Washington, DC 20230. Please note that all material sent via the U.S. Postal Service (including Overnight or Express Mail) is subject to delivery delays of up to two weeks due to mail security procedures. Responders should include the name of the person or organization filing the comment, as well as a page number, on each page of their submissions. Paper submissions should also include an electronic version on CD or DVD in .txt, .pdf, or Word format (please specify version), which should be labeled with the name and organizational affiliation of the filer and the name of the word processing program used to create the document. All emails and comments received are a part of the public record and will generally be posted to the NTIA Web site (http://www.ntia.doc.gov) without change. All personally identifying information (for example, name, address, etc.) voluntarily submitted by the commenter may be publicly accessible. Do not submit Confidential Business Information or otherwise sensitive or protected information.

FOR FURTHER INFORMATION CONTACT: Laura M. Pettus, Communications Program Specialist, Office of Telecommunications and Information Applications, National Telecommunications and Information Administration, U.S. Department of Commerce, 1401 Constitution Avenue NW., Room 4878, Washington, DC 20230; telephone: (202) 482-4509; email: lpettus@ntia.doc.gov. Please direct media inquiries to NTIA's Office of Public Affairs, (202) 482-7002.

SUPPLEMENTARY INFORMATION:

Background

On February 22, 2012, President Obama signed the Middle Class Tax Relief and Job Creation Act of 2012 (Act).¹ The Act meets a long-standing priority of the Obama Administration to create a single, nationwide interoperable public safety broadband network that will, for the first time, allow police officers, fire fighters, emergency medical service professionals, and other public safety officials to communicate with each other across agencies and jurisdictions. Public safety workers have long been hindered by incompatible, and often outdated, communications equipment and this Act will help them to do their jobs more safely and effectively.

¹ Middle Class Tax Relief and Job Creation Act of 2012, Public Law 112-96, 126 Stat. 156 (2012) (Act).

The Act establishes the First Responder Network Authority (FirstNet) as an independent authority within NTIA and authorizes it to take all actions necessary to ensure the design, construction, and operation of a nationwide public safety broadband network (PSBN), based on a single, national network architecture.² FirstNet is responsible for, at a minimum, ensuring nationwide standards for use and access of the network; issuing open, transparent, and competitive requests for proposals (RFPs) to build, operate and maintain the network; leveraging, to the maximum extent economically desirable, existing commercial wireless infrastructure to speed deployment of the network; and overseeing contracts with non-federal entities to build, operate, and maintain the network.

² Id. at § 6206(b)(1).

Additionally, the Act charges NTIA with establishing a grant program to assist State, regional, tribal, and local jurisdictions with identifying, planning, and implementing the most efficient and effective means to use and integrate the infrastructure, equipment, and other architecture associated with the nationwide PSBN to satisfy the wireless and data services needs of their jurisdiction.³ Up to $135 million will be available to NTIA for the State and Local Implementation grant program.⁴ NTIA must establish requirements for this program not later than six months after the date of enactment (i.e., August 22, 2012). The programmatic requirements for the State and Local Implementation grant program must include, at a minimum, a determination of the scope of eligible activities that will be funded, a definition of eligible costs, and a method to prioritize grants for activities that ensure coverage in rural as well as urban areas.⁵

³ Id. at § 6302(a).

⁴ Id. at § 6301(c).

⁵ Id. at § 6302(c).

NTIA is requesting public comment on certain aspects of the Act's provisions relating to the establishment of the State and Local Implementation grant program.

Request for Comment

The Consultation Process

1. Section 6206(c)(2) of the Act directs FirstNet to consult with regional, State, tribal, and local jurisdictions about the distribution and expenditure of any amounts required to carry out the network policies that it is charged with establishing. This section enumerates several areas for consultation, including: (i) Construction of a core network and any radio access network build-out; (ii) placement of towers; (iii) coverage areas of the network, whether at the regional, State, tribal, or local level; (iv) adequacy of hardening, security, reliability, and resiliency requirements; (v) assignment of priority to local users; (vi) assignment of priority and selection of entities seeking access to or use of the nationwide public safety interoperable broadband network; and (vii) training needs of local users. What steps should States take to prepare to consult with FirstNet regarding these issues?

a. What data should States compile for the consultation process with FirstNet?

b. Should this activity be covered by the State and Local Implementation grant program?

2. The Act requires that each State certify in its application for grant funds that the State has designated a single officer or governmental body to serve as the coordinator of implementation of the grant funds.⁶

⁶ Id. at § 6302(d).

a. Who might serve in the role as a single officer within the State and will it or should it vary for each State?

b. Who might serve on the governmental body (e.g., public partners, private partners, technical experts, Chief Information Officers, SWIC, finance officials, or legal experts)?

c. How should the States plan to involve the local entities in the State and Local Implementation grant program?

d. How should the States plan to involve the tribal entities in the grant program?

e. What requirements should be included in the grant program to ensure that local and tribal public safety entities are able to participate in the planning process?

f. How should the State and Local Implementation grant program ensure that all public safety disciplines (e.g., police, sheriffs, fire, and EMS) have input into the State consultation process?

g. How should the State and Local Implementation grant program define regional (e.g., interstate or intrastate) and how might the grant program be structured to facilitate regional participation through the States?

h. How should States plan to involve the Federal users and entities located within their States in the grant program?

3. The Act contemplates that FirstNet will consult with States regarding existing infrastructure within their boundaries, tower placements, and network coverage, which FirstNet can use to develop the requests for proposals called for by the Act. The States, however, will need time and funding to collect the necessary information before they are ready to consult with FirstNet.

a. Given these interrelated activities, how should the State and Local Implementation grant program be used by States to assist in gathering the information to consult with FirstNet?

b. Should consistent standards and processes be used by all States to gather this information? If so, how should those policies and standards be established? What should those policies and standards be?

c. What time period should NTIA consider for States to perform activities allowed under the grant program as it relates to gathering the information to consult with FirstNet?

Existing Public Safety Governance and Planning Authorities

4. Over the years, States have invested resources to conduct planning and to create governance structures around interoperable communications focused primarily on Land Mobile Radio (LMR) voice communications, including the Statewide Interoperability Coordinators (SWIC) and Statewide Interoperability Governing Bodies (SIGB), often called Statewide Interoperability Executive Committees (SIEC).

a. What is the current role of these existing governance structures in the planning and development of wireless public safety broadband networks?

b. What actions have the States' governance structures (e.g., SWIC, SIGB, or SIEC) taken to begin planning for the implementation of the nationwide public safety broadband network?

c. Can these existing governance structures be used for the PSBN, and if so, how might they need to change or evolve to handle issues associated with broadband access through the Long Term Evolution (LTE) technology platform?

d. What is or should be the role of the Statewide Communications Interoperability Plans (SCIPs) in a State's planning efforts for the nationwide public safety broadband network?

e. What actions do the States need to take to update the SCIPs to include broadband?

f. Should the costs to change or evolve existing governance and Statewide Plans be eligible in the new program?

g. Should the maintenance of those existing governance bodies and plans be eligible in State and Local Implementation grant program?

Leveraging Existing Infrastructure

5. How should States and local jurisdictions best leverage their existing infrastructure assets and resources for use and integration with the nationwide public safety broadband network?

a. How should States and local jurisdictions plan to use and/or determine the suitability of their existing infrastructure and equipment for integration into the public safety broadband network?

b. What technical resources do States have available to assist with deployment of the nationwide public safety broadband network?

c. How will States include utilities or other interested third parties in their planning activities?

d. Should NTIA encourage planning for the formation and use of public/private partnerships in the deployment of the nationwide public safety broadband network? If so, how?

6. Section 6206(b)(1)(B) of the Act directs FirstNet to issue open, transparent, and competitive requests for proposals (RFPs) to private sector entities for the purposes of building, operating, and maintaining the network. How can Federal, State, tribal, and local infrastructure get incorporated into this model?

a. How would States plan for this integration?

b. Should States serve as clearinghouses or one-stop shops where entities bidding to build and operate portions of the FirstNet network can obtain access to resources such as towers and backhaul networks? If so, what would be involved in setting up such clearinghouses?

c. Should setting up a clearinghouse be an eligible cost of the grant program?

State and Local Implementation Grant Activities

7. What are some of the best practices, if any, from existing telecommunications or public safety grant programs that NTIA should consider adopting for the State and Local Implementation grant program?

8. What type of activities should be allowable under the State and Local Implementation grant program?

9. What types of costs should be eligible for funding under the State and Local Implementation grant program (e.g., personnel, planning meetings, development/upgrades of plans, or assessments)?

a. Should data gathering on current broadband and mobile data infrastructure be considered an allowable cost?

b. Should the State and Local Implementation grant program fund any new positions at the State, local, or tribal level that may be needed to support the work to plan for the nationwide public safety broadband network? If so, what, if any, restrictions should NTIA consider placing on the scope of hiring and the type of positions that may be funded under the grant program?

10. What factors should NTIA consider in prioritizing grants for activities that ensure coverage in rural as well as urban areas?

11. Are there best practices used in other telecommunications or public safety grant programs to ensure investments in rural areas that could be used in the State and Local Implementation grant program?

12. In 2009, NTIA launched the State Broadband Initiative (SBI) grant program to facilitate the integration of broadband and information technology into state and local economies.

a. Do States envision SBI state designated entities participating or assisting this new State and Local Implementation grant program?

b. How can the SBI state designated entities work with States in planning for the nationwide public safety broadband network?

13. What outcomes should be achieved by the State and Local Implementation grant program?

a. Are there data that the States and local jurisdictions should deliver to document the outcomes of the grant program?

b. If so, how should they be measured?

c. Who should collect this information and in what format?

d. What data already exist and what new data could be gathered as part of the program?

14. The U.S. Department of Homeland Security's Office of Emergency Communications (OEC) has developed the following tools through its Technical Assistance Program available at http://www.publicsafetytools.info, including: (1) Mobile Data Usage and Survey Tool—Survey process to document the current-state mobile data environment, in preparation for a migration to LTE; (2) Statewide Broadband Planning Tool—Template and support on Statewide strategic broadband planning issues designed to serve as an addendum to the SCIP; (3) Frequency Mapping Tool—Graphical tool to display FCC license information and locations including cellular sites within a jurisdiction; and (4) Communications Assets Survey and Mapping Tool (CASM)—Data collection and analysis tool for existing land mobile radio assets. Should States be encouraged to utilize tools and support available from Federal programs such as those developed by OEC? Are there other programs or tools that should be considered?

15. Do the States have a preferred methodology for NTIA to use to distribute the grant funds available under the State and Local Implementation grant program?

a. Should NTIA consider allocating the grant funds based on population?

b. What other targeted allocation methods might be appropriate to use?

c. Should NTIA consider phasing the distribution of grant funds in the new program?

State Funding and Performance Requirements

16. What role, if any, should the States' Chief Information Officer (CIO) or Chief Technology Officer (CTO) play in the State and Local Implementation grant program and the required consultations with FirstNet? How will these different positions interact and work with public safety officials under the State and Local Implementation grant program?

17. The Act requires that the Federal share of the cost of activities carried out under the State and Local Implementation grant program not exceed 80 percent and it gives the Assistant Secretary the authority to waive the matching requirement, in whole or in part, if good cause is shown and upon determining that the waiver is in the public interest.⁷ As NTIA develops the State and Local Implementation grant program, what are some of the factors it should consider regarding States' ability to secure matching funds?

⁷ Id. at § 6302(b).

18. What public interest factors should NTIA consider when weighing whether to grant a waiver of the matching requirement of State and Local Implementation grant program?

Other

19. Please provide comment on any other issues that NTIA should consider in creating the State and Local Implementation grant program, consistent with the Act's requirements.

Dated: May 11, 2012.
Lawrence E. Strickling,
Assistant Secretary for Communications and Information.

[FR Doc. 2012-11818 Filed 5-15-12; 8:45 am]

BILLING CODE 3510-60-P